DEPARTMENT OF STATE

[Public Notice 5999]

Termination of Statutory Debarment and Reinstatement of Eligibility To Apply for Export/Retransfer Authorizations Pursuant to Section 38(g)(4) of the Arms Export Control Act, for Morris Rothenberg & Son, Inc. (d/b/a ROTHCO)

ACTION: Notice.

SUMMARY: Notice is hereby given that the Department of State has terminated the statutory debarment against Morris Rothenberg & Son, Inc. (d/b/a ROTHCO) pursuant to section 38(g)(4) of the Arms Export Control Act (AECA) (22 U.S.C. 2778(g)(4)).

EFFECTIVE DATE: November 20, 2007.

FOR FURTHER INFORMATION CONTACT: David C. Trimble, Director Office of Defense Trade Controls Compliance, Directorate of Defense Trade Controls, Bureau of Political-Military Affairs, Department of State (202) 663-2807.

SUPPLEMENTARY INFORMATION: Section 38(g)(4) of the AECA (22 U.S.C. 2778) prohibits the issuance of export licenses to a person, if that person or any party to the export has been convicted of violating section 38 of the AECA and certain other U.S. criminal statutes enumerated at section 38(g)(1)(A) of the AECA. A person convicted of violating the AECA is also subject to statutory debarment under section 127.7 of the ITAR.

In July 1999, ROTHCO was convicted of violating the AECA and the ITAR (U.S. District Court, District of Connecticut, 3:04CR 149-JBA). Based on this conviction, ROTHCO was statutorily debarred pursuant to section 127.7 of the ITAR and, thus, prohibited from participating directly or indirectly in exports of defense articles and defense services. Notice of debarment was published in the Federal Register (67 FR 10033, March 5, 2002).

In accordance with section 38(g)(4) of the AECA, statutory debarment may be terminated after consultation with the other appropriate U.S. agencies and after a thorough review of the circumstances surrounding the conviction and a finding that appropriate steps have been taken to mitigate any law enforcement concerns. The Department of State, after consultation with other agencies, has determined that ROTHCO has taken appropriate steps to address the causes of the violations and to mitigate any law enforcement concerns. Therefore, the debarment against ROTHCO is rescinded, effective November 20, 2007.

Dated: November 20, 2007.
Stephen D. Mull,
Acting Assistant Secretary of State, Bureau of Political-Military Affairs, Department of State.

[FR Doc. E7-23305 Filed 11-29-07; 8:45 am]

BILLING CODE 4710-25-P